DEPARTMENT OF THE INTERIOR

Fish and Wildlife Service

Endangered and Threatened Wildlife and Plants; Initiation of 5-Year Reviews of 10 Listed Species

AGENCY: Fish and Wildlife Service, Interior.

ACTION: Notice of Review; Request for Information.

SUMMARY: We, the U.S. Fish and Wildlife Service, initiate 5-year reviews of the endangered Peter's Mountain mallow (Iliamna corei), Jesup's milk-vetch (Astragalus robbinsii var. jesupi), James spinymussel (Pleurobema collina), sandplain gerardia (Agalinis acuta), harperella (Ptilimnium nodosum), Shenandoah salamander (Plethodon shenandoah), American chaffseed (Schwalbea americana), and rough rabbitsfoot (Quadrula cylindrica strigillata), and the threatened Northeastern beach tiger beetle (Cicindela dorsalis dorsalis) and Virginia spiraea (Spiraea virginiana) under the Endangered Species Act of 1973, as amended (Act). We request any new information on these species that may have a bearing on their classification as endangered or threatened.

Based on the results of these 5-year reviews, we will make a finding on whether these species are properly classified under the Act.

DATES: To allow us adequate time to conduct these reviews, we must receive your information no later than March 24, 2008. However, we will continue to accept new information about any listed species at any time.

ADDRESSES: For instructions on where to submit information and review the information that we receive on these species, see “Public Solicitation of New Information.”

FOR FURTHER INFORMATION CONTACT: Ms. Mary Parkin, U.S. Fish and Wildlife Service, Northeast Region, 300 Westgate Center Drive, Hadley, MA 01035, 413-253-8617 or 617-876-6173, or via electronic mail at mary_parkin@fws.gov. Individuals who are hearing impaired or speech impaired may call the Federal Relay Service at 800-877-8337 for TTY assistance. For species-specific information, contact the appropriate person under “Public Solicitation of New Information.”

SUPPLEMENTARY INFORMATION:

Why Do We Conduct a 5-Year Review?

Under the Act we maintain the List of Endangered and Threatened Wildlife and Plant Species (List) at 50 CFR 17.11 and 17.12. We amend the List by publishing final rules in the Federal Register. Section 4(c)(2)(A) of the Act requires that we conduct a review of listed species at least once every 5 years. Section 4(c)(2)(B) requires that we determine: (1) Whether a species no longer meets the definition of threatened or endangered and should be removed from the List (delisted); (2) whether a species more properly meets the definition of threatened and should be reclassified from endangered to threatened; or (3) whether a species more properly meets the definition of endangered and should be reclassified from threatened to endangered. Using the best scientific and commercial data available, a species will be considered for delisting if the data substantiate that the species is neither endangered nor threatened for one or more of the following reasons: (1) The species is considered extinct; (2) the species is considered to be recovered; and/or (3) the original data available when the species was listed, or the interpretation of such data, were in error. Any change in Federal classification requires a separate rulemaking process. Therefore, we are requesting submission of any such information that has become available since either the original listing or the most recent status review for these species. Based on the results of these 5-year reviews, we will make the requisite findings under section 4(c)(2)(B) of the Act.

Our regulations at 50 CFR 424.21 require that we publish a notice in the Federal Register announcing those species currently under review. This notice announces initiation of our active review of the species in Table 1.

Table 1.—Summary of Listing Information, 4 Wildlife Species and 6 Plant Species in the Northeast Region
Common name | Scientific name | Status | Where listed | Final listing rule
Animals
James spinymussel | Pleurobema collina | Endangered | Entire | 53 FR 27689; 07/22/1988
Shenandoah salamander | Plethodon shenandoah | Endangered | Entire | 54 FR 34464; 08/18/1989
Rough rabbitsfoot | Quadrula cylindrica strigillata | Endangered | Entire | 62 FR 1647; 01/10/1997
Northeastern beach tiger beetle | Cicindela dorsalis dorsalis | Threatened | Entire | 55 FR 32088; 08/07/1990
PLANTS
Peter's Mountain mallow | Iliamna corei | Endangered | Entire | 51 FR 17343; 05/12/1986
Jesup's milk-vetch | Astragalus robbinsii var. jesupi | Endangered | Entire | 52 FR 21481; 06/05/1987
Sandplain gerardia | Agalinis acuta | Endangered | Entire | 53 FR 34701; 09/07/1988
Harperella | Ptilimnium nodosum | Endangered | Entire | 53 FR 37978; 09/28/1988
American chaffseed | Schwalbea americana | Endangered | Entire | 57 FR 44704; 09/29/1992
Virginia spiraea | Spiraea virginiana | Threatened | Entire | 55 FR 24241; 06/15/1990

What Information Do We Consider in Our Review?

In our 5-year review, we consider all new information available at the time of the review. These reviews will consider the best scientific and commercial data that have become available since the original listing determination or most recent status review of each species, such as: (A) Species biology, including but not limited to population trends, distribution, abundance, demographics, and genetics; (B) habitat conditions, including but not limited to amount, distribution, and suitability; (C) conservation measures that have been implemented to benefit the species; (D) threat status and trends (see five factors under heading “How do we determine whether a species is endangered or threatened?”); and (E) other new information, data, or corrections, including but not limited to taxonomic or nomenclatural changes, identification of erroneous information contained in the List of Endangered and Threatened Wildlife and Plants, and improved analytical methods.

Public Solicitation of New Information

We request any new information concerning the status of the wildlife species James spinymussel, Shenandoah salamander, rough rabbitsfoot, and northeastern beach tiger beetle, and of the plant species Peter's Mountain mallow, Jesup's milk-vetch, sandplain gerardia, harperella, American chaffseed, and Virginia spiraea. See “What Information Do We Consider in Our Review?” for specific criteria. If you submit information, support it with documentation such as maps, bibliographic references, methods used to gather and analyze the data, and/or copies of any pertinent publications, reports, or letters by knowledgeable sources. We specifically request information regarding data from any systematic surveys, as well as any studies or analysis of data that may show population size or trends; information pertaining to the biology or ecology of the species; information regarding the effects of current land management on population distribution and abundance; information on the current condition of habitat; and recent information regarding conservation measures that have been implemented to benefit the species. Additionally, we specifically request information regarding the current distribution of populations and evaluation of threats faced by the species in relation to the five listing factors (as defined in section 4(a)(1) of the Act) and the species' listed status as judged against the definition of threatened or endangered. Finally, we solicit recommendations pertaining to the development of, or potential updates to recovery plans and additional actions or studies that would benefit these species in the future.

Our practice is to make information, including names and home addresses of respondents, available for public review. Before including your address, phone number, electronic mail address, or other personal identifying information in your comment, you should be aware that your entire comment—including your personal identifying information—may be made publicly available at any time. While you can ask us in your comment to withhold your personal identifying information from public review, we cannot guarantee that we will be able to do so.

Mail, electronic mail, or hand-deliver information on the following species to the corresponding address below. You may also view information we receive in response to this notice, as well as other documentation in our files, at the following locations by appointment, during normal business hours.

Peter's Mountain mallow: U.S. Fish and Wildlife Service, 73 Weir Hill Road, Sudbury, MA 01776, Attention: Anne Hecht. You may direct inquiries to Ms. Hecht at 978-443-4325, anne_hecht@fws.gov.

Jesup's milk-vetch: U.S. Fish and Wildlife Service, New England Field Office, 70 Commercial St., Suite 300, Concord, NH 03301, Attention: Susi von Oettingen. Direct inquiries to Ms. von Oettingen at 603-223-2541, extension 22, susi_vonoettingen@fws.gov.

James spinymussel: U.S. Fish and Wildlife Service, Virginia Field Office, 6669 Short Lane, Gloucester, VA 23061, Attention: Cindy Kane. Direct inquiries to Ms. Kane at 804-693-6694, extension 113, cindy_kane@fws.gov.

Sandplain gerardia: U.S. Fish and Wildlife Service, Long Island Field Office, 3 Old Barto Road, Brookhaven, NY 11719, Attention: Steve Sinkevich. Direct inquiries to Mr. Sinkevich at 631-776-1401, steve_sinkevich@fws.gov.

Harperella: U.S. Fish and Wildlife Service, West Virginia Field Office, 694 Beverly Pike, Elkins, WV 26241, Attention: Laura Hill. Direct inquiries to Ms. Hill at 304-636-6586, extension 18, laura_hill@fws.gov.

Shenandoah salamander: U.S. Fish and Wildlife Service, Northeast Region, 300 Westgate Center Drive, Hadley, MA 01035, Attention: Mary Parkin. Direct inquiries to Ms. Parkin at 413-253-8617, or 617-876-6173, mary_parkin@fws.gov.

American chaffseed: U.S. Fish and Wildlife Service, New Jersey Field Office, 927 N. Main Street, Bldg D, Pleasantville, NJ 08232, Attention: Annette Scherer. Direct inquiries to Ms. Scherer at 609-383-3938, extension 34, annette_scherer@fws.gov.

Rough rabbitsfoot: U.S. Fish and Wildlife Service, Southwest Virginia Field Office, 330 Cummings Street, Abingdon, VA 24210, Attention: Shane Hanlon. Direct inquiries to Mr. Hanlon at 276-623-1233, extension 25, shane_hanlon@fws.gov.

Northeastern beach tiger beetle: U.S. Fish and Wildlife Service, Virginia Field Office, 6669 Short Lane, Gloucester, VA 23061, Attention: Mike Drummond. Direct inquiries to Mr. Drummond at 804-693-6694, extension 114, mike_drummond@fws.gov.

Virginia spiraea: U.S. Fish and Wildlife Service, Virginia Field Office, 6669 Short Lane, Gloucester, VA 23061, Attention: William Hester. Direct inquiries to Mr. Hester at 804-693-6694, extension 134, william_hester@fws.gov.

All electronic information must be submitted in text format or rich text format. Include the following identifier in the subject line of the electronic mail: Information on 5-year review for [name of species], and include your name and return address in the body of your message.

How Are These Species Currently Listed?

Table 1 provides current listing information. Also, the List, which covers all listed species, is also available on our Internet site at http://endangered.fws.gov/wildlife.html#Species.

Definitions Related to this Notice?

To help you submit information about the species we are reviewing, we provide the following definitions:

Species includes any species or subspecies of fish, wildlife, or plant, and any distinct population segment of any species of vertebrate, which interbreeds when mature;

Endangered species means any species that is in danger of extinction throughout all or a significant portion of its range; and

Threatened species means any species that is likely to become an endangered species within the foreseeable future throughout all or a significant portion of its range.

How Do We Determine Whether a Species Is Endangered or Threatened?

Section 4(a)(1) of the Act establishes that we determine whether a species is endangered or threatened based on one or more of the five following factors: (A) The present or threatened destruction, modification, or curtailment of its habitat or range; (B) Overutilization for commercial, recreational, scientific, or educational purposes; (C) Disease or predation; (D) The inadequacy of existing regulatory mechanisms; or (E) Other natural or manmade factors affecting its continued existence. Section 4(a)(1) of the Act requires that our determination be made on the basis of the best scientific and commercial data available.

What Could Happen as a Result of Our Review?

For each species under review, if we find new information that indicates a change in classification may be warranted, we may propose a new rule that could do one of the following: (a) Reclassify the species from threatened to endangered (uplist); (b) reclassify the species from endangered to threatened (downlist); or (c) remove the species from the List (delist). If we determine that a change in classification is not warranted, then the species will remain on the List under its current status.

Authority: This document is published under the authority of the Endangered Species Act of 1973, as amended (16 U.S.C. 1531 et seq.).

Dated: December 28, 2007.
Wendi Weber,
Acting Regional Director, Northeast Region.

[FR Doc. E8-1108 Filed 1-22-08; 8:45 am]

BILLING CODE 4310-55-P